DEPARTMENT OF THE TREASURY

Submission for OMB Review; Comment Request

May 18, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 23, 2006 to be assured of consideration.

Community Development Financial Institutions Program Fund (CDFI)

OMB Number: 1559-0014.

Type of Review: Extension.

Title: New Markets Tax Credit (NMTC) Program—Community Development, Entity (CDE) Certification Application.

Form: CDFI Form 0019.

Description: The purpose of the NMTC Program is to provide an incentive to investors in the form of a tax credit, which is expected to stimulate investment in new private capital in low income communities. Applicants must be a CDE to apply for allocation.

Respondents: Businesses and other for-profit and non-profit institutions, and State, local or tribal governments.

Estimated Total Burden Hours: 2,500 hours.

Clearance Officer: Ashanti McCallum, Community Development Financial Institutions Program Fund, 601 13th Street, NW., Suite 200 South, Washington, DC 20005. (202) 622-9018.

OMB Reviewer: Alexander T. Hunt, Office of Management and Budget, Room 10235, New Executive Office Building, Washington, DC 20503. (202) 395-7316.

Robert Dahl,
Treasury PRA Clearance Officer.

[FR Doc. E6-7921 Filed 5-23-06; 8:45 am]

BILLING CODE 4810-70-P